DEPARTMENT OF ENERGY

[GDO Docket No. EA-527]

Application for Authorization To Export Electric Energy; Electric Power Markets USA, LLC

AGENCY: Grid Deployment Office, Department of Energy.

ACTION: Notice of application.

SUMMARY: Electric Power Markets USA, LLC (the Applicant or EPM) has applied for authorization to transmit electric energy from the United States to Mexico pursuant to the Federal Power Act.

DATES: Comments, protests, or motions to intervene must be submitted on or before February 23, 2026.

ADDRESSES: Comments, protests, motions to intervene, or requests for more information should be addressed by electronic mail to Electricity.Exports@hq.doe.gov.

FOR FURTHER INFORMATION CONTACT: Marina Fennel, (240) 702-6156, Electricity.Exports@hq.doe.gov.

SUPPLEMENTARY INFORMATION: The United States Department of Energy (DOE) regulates electricity exports from the United States to foreign countries in accordance with section 202(e) of the Federal Power Act (FPA) (16 U.S.C. 824a(e)) and regulations thereunder (10 CFR 205.300 et seq.). Sections 301(b) and 402(f) of the DOE Organization Act (42 U.S.C. 7151(b) and 7172(f)) transferred this regulatory authority, previously exercised by the now-defunct Federal Power Commission, to DOE.

Section 202(e) of the FPA provides that an entity which seeks to export electricity must obtain an order from DOE authorizing that export (16 U.S.C. 824a(e)). On April 10, 2023, the authority to issue such orders was delegated to the DOE's Grid Deployment Office (GDO) under Redelegation Order No. S3-DEL-GD1-2023.

On July 30, 2025, EPM filed an application (Application or App.) for authorization to transmit electric energy from the United States to Mexico for a term of five years. App. at 1.

According to the Application, EPM is a power marketer that participates in the Electric Reliability Council of Texas (ERCOT) market. App. at 1. EPM states that its principal place of business is in [San Antonio] Texas and is a wholly owned subsidiary of EPWM Panama, S.A. Id at 1-2. EPM represents that it was granted authority to sell “energy, capacity, and ancillary services at market-based rates” under a market-based rate tariff. Id. Attachment 2.

The Applicant represents that it “will purchase the electricity that it may export . . . through negotiated agreements that have been voluntarily executed by the selling parties after considering their own need for any such electricity.” App. at 3. EPM thus asserts the “proposed electricity exports will not impair or tent to impede the sufficiency of electric power supplies in the United States or the regional coordination of electric utility planning or operations.” Id.

EPM further represents that each export transaction will be scheduled “with the appropriate balancing authority area in compliance with all reliability criteria, standards, and guidelines of the North American Electric Reliability Corporation” and will “obtain all necessary transmission access over approved export facilities.” App. at 4. The Applicant commits to “abide by the export limits contained in the relevant export authorization of any transmission facilities over which EPM exports electricity to Mexico.” Id.

The existing international transmission facilities to be utilized by the Applicant have been previously authorized by Presidential permits issued pursuant to Executive Order 10485, as amended, and are appropriate for open access transmission by third parties. See App. at Exhibit C.

Procedural Matters: Any person desiring to be heard in this proceeding should file a comment or protest to the Application at Electricity.Exports@hq.doe.gov. Protests should be filed in accordance with Rule 211 of FERC's Rules of Practice and Procedure (18 CFR 385.211). Any person desiring to become a party to this proceeding should file a motion to intervene at Electricity.Exports@hq.doe.gov in accordance with FERC Rule 214 (18 CFR 385.214).

Comments and other filings concerning EPM's Application should be clearly marked with GDO Docket No. EA-527. Additional copies are to be provided directly to Alejandro Mejicanos Vila, Electric Power Markets USA LLC, 9706 Plymouth Road, San Antonio, Texas 78216, amv@electricpowermarket.com, and Frederick G. Jauss IV, Husch Blackwell LLP, 1801 Pennsylvania Ave. NW, Suite 1000, Washington, DC 20006-3606, fred.jauss@huschblackwell.com.

A final decision will be made on the requested authorization after the environmental impacts have been evaluated pursuant to DOE's National Environmental Policy Act Implementing Procedures (10 CFR part 1021) and after DOE evaluates whether the proposed action will have an adverse impact on the sufficiency of supply or reliability of the United States electric power supply system.

Copies of this Application will be made available, upon request, by accessing the program website at https://www.energy.gov/gdo/pending-applications-0 or by emailing Electricity.Exports@hq.doe.gov.

Signing Authority

This document of the Department of Energy was signed on January 9, 2026, by Chris Wright, Secretary of Energy. That document with the original signature and date is maintained by DOE. For administrative purposes only, and in compliance with requirements of the Office of the Federal Register, the undersigned DOE Federal Register Liaison Officer has been authorized to sign and submit the document in electronic format for publication, as an official document of the Department of Energy. This administrative process in no way alters the legal effect of this document upon publication in the Federal Register.

Signed in Washington, DC, on January 21, 2026.
Jennifer Hartzell,
Alternate Federal Register Liaison Officer, U.S. Department of Energy.

[FR Doc. 2026-01297 Filed 1-22-26; 8:45 am]

BILLING CODE 6450-01-P